FEDERAL COMMUNICATIONS COMMISSION

47 CFR Part 73

[DA 02-1159; MB Docket No. 02-106, RM-10416; MB Docket No. 02-107, RM-10417; MB Docket No. 02-108, RM-10418; MB Docket No. 02-109, RM-10420]

Radio Broadcasting Services; Presque Isle, MI; Alpena, MI; Harrisville, MI; and Morgan, GA

AGENCY: Federal Communications Commission.

ACTION: Proposed rule.

SUMMARY: This document proposes four allotments. The Audio Division requests comments on a petition filed by Northern Paul Bunyan Radio Company proposing the allotment of Channel 227A at Presque Isle, Michigan, as the community's first local aural transmission service. Channel 227A can be allotted to Presque Isle in compliance with the Commission's minimum distance separation requirements at city reference coordinates. The coordinates for Channel 227A at Presque Isle are 45-18-15 North Latitude and 83-28-37 West Longitude. Since Presque Isle is located within 320 kilometers (200 miles) of the U.S.-Canadian border, Canadian concurrence has been requested. See Supplementary Information, infra.

DATES: Comments must be filed on or before July 8, 2002, and reply comments on or before July 23, 2002.

ADDRESSES: Federal Communications Commission, Washington, DC 20554. In addition to filing comments with the FCC, interested parties should serve the petitioner, his counsel, or consultant, as follows: Robert J. Buenzle, Esq., 12110 Sunset Hills Road, Suite 450, Reston, Virginia 22090 (Counsel for Northern Paul Bunyan Radio Company); and Jerry E. White, Managing Partner, Morgan Radio Company, 2586 Old Pelham Road, Pelham, Georgia 31779 (Petitioner).

FOR FURTHER INFORMATION CONTACT: Sharon P. McDonald, Media Bureau, (202) 418-2180.

SUPPLEMENTARY INFORMATION: This is a synopsis of the Commission's Notice of Proposed Rule Making, MB Docket No. 02-106, MB Docket No. 02-107, MB Docket No. 02-108, and MB Docket No. 02-109, adopted May 1, 2002, and released May 17, 2002. The full text of this Commission decision is available for inspection and copying during normal business hours in the FCC Reference Information Center (Room CY-A257), 445 12th Street, SW., Washington, DC. The complete text of this decision may also be purchased from the Commission's copy contractor, Qualex International, Portals II, 445 12th Street SW., Room CY-B402, Washington, DC 20554.

The Commission requests comments on a petition filed Northern Paul Bunyan Radio Company proposing the allotment of Channel 289A at Alpena, Michigan, as the community's third local commercial FM transmission service. Channel 289A can be allotted to Alpena in compliance with the Commission's minimum distance separation requirements with a site restriction of 6.4 kilometers (4.0 miles) northeast to avoid a short-spacing to the licensed site of Station WKHQ-FM, Channel 290C1, Charlevoit, Michigan. The coordinates for Channel 289A at Alpena are 45-05-30 North Latitude and 83-21-48 West Longitude. Since Alpena is located within 320 kilometers (200 miles) of the U.S.-Canadian border, Canadian concurrence has been requested.

The Commission requests comments on a petition filed by Northern Paul Bunyan Radio Company proposing the allotment of Channel 226A at Harrisville, Michigan, as the community's first local commercial FM transmission service. Channel 226A can be allotted to Harrisville in compliance with the Commission's minimum distance separation requirements at city reference coordinates. The coordinates for Channel 226A at Harrisville are 44-39-22 North Latitude and 83-17-41 West Longitude.

The Commission requests comments on a petition filed by Donald F. White and Jerry E. White, d/b/a Morgan Radio Company, proposing the allotment of Channel 228A at Morgan, Georgia, as the community's first local aural transmission service. Channel 228A can be allotted to Morgan in compliance with the Commission's minimum distance separation requirements with a site at city reference coordinates. The coordinates for Channel 228A at Morgan are 31-32-15 North Latitude and 84-35-58 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1.The authority citation for Part 73 continues to read as follows:

Authority: 47 U.S.C. 154, 303, 334 and 336.

§ 73.202 [Amended]

2. Section 73.202(b), the Table of FM Allotments under Georgia, is amended by adding Morgan, Channel 228A.

3. Section 73.202(b), the Table of FM Allotments under Michigan, is amended by adding Presque Isle, Channel 227A; by adding Channel 289A at Alpena; and by adding Harrisville, Channel 226A.

Federal Communications Commission.
John A. Karousos,
Assistant Chief, Audio Division, Office of Broadcast License Policy, Media Bureau.

[FR Doc. 02-14652 Filed 6-10-02; 8:45 am]

BILLING CODE 6712-01-P